DEPARTMENT OF COMMERCE

National Oceanic and Atmospheric Administration

RIN 0648-XD990

Atlantic Highly Migratory Species; Essential Fish Habitat Final 5-Year Review

AGENCY: National Marine Fisheries Service (NMFS), National Oceanic and Atmospheric Administration (NOAA), Commerce.

ACTION: Notice of availability; notice of intent.

SUMMARY: NMFS announces the availability of the Final Atlantic Highly Migratory Species (HMS) Essential Fish Habitat (EFH) 5-Year Review and intent to initiate an amendment to the 2006 Consolidated Atlantic HMS Fishery Management Plan (FMP) to revise Atlantic HMS EFH descriptions and designations. The purpose of the Atlantic HMS EFH 5-Year Review was to gather relevant new information and determine whether revisions to existing EFH descriptions and designations are warranted, in compliance with the requirements of the Magnuson-Stevens Fishery Conservation and Management Act and implementing regulations. NMFS has determined that revisions to EFH descriptions and designations are warranted, and an amendment to the 2006 Consolidated Atlantic HMS FMP will be initiated.

DATES: The Final Atlantic HMS EFH 5-Year Review will be available on July 1, 2015.

ADDRESSES: Electronic copies of the Draft Atlantic HMS EFH 5-Year Review may be obtained on the internet at: http://www.nmfs.noaa.gov/sfa/hms/documents/2015_final_efh_review.pdf.

FOR FURTHER INFORMATION CONTACT: Peter Cooper at 301-427-8503, or Jennifer Cudney at 727-824-5399.

SUPPLEMENTARY INFORMATION: The Magnuson-Stevens Fishery Conservation and Management Act (Magnuson-Stevens Act) includes provisions concerning the identification and conservation of EFH (16 U.S.C. 1801 et seq.). EFH is defined in 50 CFR 600.10 as “those waters and substrate necessary to fish for spawning, breeding, feeding, or growth to maturity.” NMFS must identify and describe EFH, minimize to the extent practicable the adverse effects of fishing on EFH, and identify other actions to encourage the conservation and enhancement of EFH (§ 600.815(a)). EFH maps are presented online in the NMFS EFH Mapper (http://www.habitat.noaa.gov/protection/efh/habitatmapper.html). Federal agencies that authorize, fund, or undertake actions that may adversely affect EFH must consult with NMFS, and NMFS must provide conservation recommendations to Federal and state agencies regarding any such actions (§ 600.815(a)(9)).

In addition to identifying and describing EFH for managed fish species, a review of EFH must be conducted every 5 years, and EFH provisions must be revised or amended, as warranted, based on the best available scientific information. The EFH 5-Year Review evaluates published scientific literature, unpublished scientific reports, information solicited from interested parties, and previously unavailable or inaccessible data. NMFS announced the initiation of this review and solicited information for this review from the public in a Federal Register notice on March 24, 2014 (79 FR 15959). The initial public review/submission period ended on May 23, 2014. The draft EFH 5-Year Review was made available in March 2015 and public comments on the draft were solicited in a Federal Register notice on March 5, 2015 (80 FR 11981). The public comment period for the draft EFH 5-Year Review ended on April 6, 2015.

The final EFH 5-Year Review for Atlantic HMS includes tunas (bluefin, bigeye, albacore, yellowfin, and skipjack), oceanic sharks, swordfish, and billfishes (blue marlin, white marlin, sailfish, roundscale spearfish, and longbill spearfish). The Atlantic HMS EFH 5-Year Review considers data regarding Atlantic HMS and their habitats that have become available since 2009 that were not included in Final Amendment 1 to the 2006 Consolidated Atlantic HMS (Amendment 1; June 1, 2010, 75 FR 30484); Final Environmental Impact Statement for Amendment 3 to the 2006 Consolidated HMS FMP (June 1, 2010, 75 FR 30484); and the interpretive rule that described EFH for roundscale spearfish (September 22, 2010, 75 FR 57698).

NMFS analyzed the information gathered through the EFH review process in this final 5-year review and determined that revision of EFH is warranted, and an amendment to the 2006 Consolidated Atlantic HMS FMP will be undertaken. In reviewing literature since 2009, new data emerged for certain Atlantic HMS that warrant revision to those species' EFH geographic boundaries. For other Atlantic HMS, new data were either unavailable or it was determined that the new data did not warrant revisions to their EFH geographic boundaries. However, in the upcoming amendment, new observer, survey, and tag/recapture data collected since 2009 will be used to revise EFH geographic boundaries for all species. The current EFH methodology to designate EFH geographic boundaries for Atlantic HMS was first applied in Amendment 1, and Atlantic HMS EFH geographic boundaries have not since been updated using this methodology. It is unknown how data that have been consistently collected since 2009 (e.g., observer, survey, tag/recapture) will impact EFH geographic boundaries. Therefore, all Atlantic HMS EFH geographic boundaries will be updated to see how these data will impact EFH geographic boundaries, even for species where there was limited or no new EFH data found in the literature review.

The upcoming EFH amendment will consider all 10 EFH components, including individual species EFH descriptions, EFH conservation and enhancement recommendations for fishing and non-fishing effects on EFH, and identification of HAPCs, as well as scientific feedback and public comment.

Authority: 16 U.S.C. 971 et seq., and 1801 et seq.

Dated: June 26, 2015.
Emily H. Menashes,
Acting Director, Office of Sustainable Fisheries, National Marine Fisheries Service.

[FR Doc. 2015-16191 Filed 6-30-15; 8:45 am]

BILLING CODE 3510-22-P